DEPARTMENT OF TRANSPORTATION

Federal Aviation Administration

14 CFR Part 39

[Docket No. FAA-2005-22055; Directorate Identifier 2005-NE-31-AD; Amendment 39-14517; AD 2006-06-08]

RIN 2120-AA64

Airworthiness Directives; General Electric Company Model CF6-80C2D1F Turbofan Engines

AGENCY: Federal Aviation Administration (FAA), Department of Transportation (DOT).

ACTION: Final rule.

SUMMARY: The FAA is adopting a new airworthiness directive (AD) for General Electric Company (GE) Model CF6-80C2D1F turbofan engines. This AD requires modifying the latching system of the fan reverser. This AD results from 13 reports of released thrust reverser hardware. We are issuing this AD to prevent release of the thrust reverser cascade on landing, which could result in runway debris and a possible hazard to other aircraft.

DATES: This AD becomes effective April 25, 2006. The Director of the Federal Register approved the incorporation by reference of certain publications listed in the regulations as of April 25, 2006.

ADDRESSES: You can get the service information identified in this AD from Middle River Aircraft Systems, Mail Point 46, 103 Chesapeake Park Plaza, Baltimore, MD, 21220-4295, telephone: (410) 682-0094; fax: (410) 682-0100.

You may examine the AD docket on the Internet at http://dms.dot.gov or in Room PL-401 on the plaza level of the Nassif Building, 400 Seventh Street, SW., Washington, DC.

FOR FURTHER INFORMATION CONTACT: James Lawrence, Aerospace Engineer, Engine Certification Office, FAA, Engine & Propeller Directorate, 12 New England Executive Park, Burlington, MA 01803; telephone (781) 238-7176; fax (781) 238-7199.

SUPPLEMENTARY INFORMATION: The FAA proposed to amend 14 CFR part 39 with a proposed airworthiness directive (AD). The proposed AD applies to GE Model CF6-80C2D1F turbofan engines. We published the proposed AD in the Federal Register on October 24, 2005 (70 FR 61398). That action proposed to require modifying the latching system of the fan reverser.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the comments received.

Clarify the Service Bulletin Incorporations

One commenter states that the AD should clarify that if Middle River Aircraft Systems (MRAS) Service Bulletin (SB) No. CF6-80C2 S/B 78-1077 is incorporated, incorporating MRAS SB No. CF6-80C2 S/B 78-1068 is not necessary. Likewise, if MRAS SB No. CF6-80C2 S/B 78-1068 is incorporated, incorporating MRAS SB No. CF6-80C2 S/B 78-1077 is not necessary.

We agree. We changed compliance paragraph (f)(2) in this AD to state “Use the Accomplishment Instructions of either MRAS SB No. CF6-80C2 S/B 78-1068, Revision 2, dated May 16, 2005, or SB No. CF6-80C2 S/B 78-1077, Revision 1, dated May 16, 2005, (but not both SBs) to modify the latch assembly.”

Request for Incorporating by Reference the SBs

One commenter requests that we incorporate by reference the required SBs in the proposed AD, to make them available through the Office of the Federal Register. We agree that the SBs should be incorporated by reference, but only in the final rule AD. The proposed AD cannot incorporate by reference any service information, because the document is only a proposal. This AD incorporates by reference the applicable SBs.

Request for Referencing the Defective Part or Assembly by Part Number

One commenter requests that we reference the defective part or assembly by part number in the AD. Without specific part numbers, it is impossible to determine if part manufacturer approval (PMA) equivalent parts or assemblies exist, either for defective parts or assemblies or the new-and-improved parts or assemblies.

We do not agree. The affected part numbers are identified in the appropriate Service Bulletins and do not need to be repeated in the AD.

In Compliance With Older Versions of the Required SBs

One commenter states they have complied with older versions of all the required Service Bulletins and believes that this should satisfy the intent of the AD. We agree. We changed applicability paragraph (c) to read “This AD applies to the following General Electric Company (GE) Model CF6-80C2D1F turbofan engines:

(1) Engines that have not incorporated either Middle River Aircraft Systems (MRAS) Service Bulletin (SB) No. CF6-80C2 S/B 78-1068, Revision 2, dated May 16, 2005, any earlier revision, or original issue, or SB No. CF6-80C2 S/B 78-1077, Revision 1, dated May 16, 2005, or original issue; and

(2) Engines that have not incorporated MRAS SB No. CF6-80C2 S/B 78-1078, Revision 1, dated May 16, 2005, or original issue; and

(3) Engines that have not incorporated MRAS SB No. CF6-80C2 S/B 78-1088, Revision 5, dated May 24, 2005, any earlier revision, or original issue.”

Also, for clarification, we changed paragraphs (f), (g), and (h) to generally read “If MRAS SB No. CF6-80C2 S/B 78-10(XX), Revision (X), dated May 16, 2005, any earlier revision, or original issue, has not been incorporated, do the following:”

Request for Compliance Time Changes

One commenter requests we change the compliance time in paragraph (f) from 1,200 flight hours to 1,600 flight hours, and the compliance time in paragraphs (g) and (h) from 6,000 flight hours to “not to exceed 7,500 flight hours”. The commenter states that these changes would make the AD coincide with their A-Checks and C-Checks.

We do not agree. We worked closely with GE to establish compliance times that would help ensure the AD requirements get done within about a one-and-a-half year timeframe. The first event of released thrust reverser hardware occurred in January 1997. GE issued SBs to address the problem shortly afterward. However, several MD-11 operators have not incorporated those SBs, and as a result, three more events of released thrust reverser hardware occurred since March 2004. These events could result in runway debris and a possible hazard to other aircraft.

Conclusion

We have carefully reviewed the available data, including the comments received, and determined that air safety and the public interest require adopting the AD with the changes described previously. We have determined that these changes will neither increase the economic burden on any operator nor increase the scope of the AD.

Costs of Compliance

We estimate that this AD will affect 138 engines installed on airplanes of U.S. registry. We also estimate that it will take approximately 19 work hours per engine to perform the proposed actions, and that the average labor rate is $65 per work hour. Required parts will cost approximately $6,644 per engine. Based on these figures, we estimate the total cost of the AD to U.S. operators to be $1,087,302.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-06-08 General Electric Company: Amendment 39-14517. Docket No. FAA-2005-22055; Directorate Identifier. 2005-NE-31-AD.

Effective Date

(a) This airworthiness directive (AD) becomes effective April 25, 2006.

Affected ADs

(b) None.

Applicability

(c) This AD applies to the following General Electric Company (GE) Model CF6-80C2D1F turbofan engines:

(1) Engines that have not incorporated either Middle River Aircraft Systems (MRAS) Service Bulletin (SB) No. CF6-80C2 S/B 78-1068, Revision 2, dated May 16, 2005, any earlier revision, or original issue, or SB No. CF6-80C2 S/B 78-1077, Revision 1, dated May 16, 2005, or original issue; and

(2) Engines that have not incorporated MRAS SB No. CF6-80C2 S/B 78-1078, Revision 1, dated May 16, 2005, or original issue; and

(3) Engines that have not incorporated MRAS SB No. CF6-80C2 S/B 78-1088, Revision 5, dated May 24, 2005, any earlier revision, or original issue. These engines are installed on, but not limited to, McDonnell Douglas Corporation MD-11 airplanes.

Unsafe Condition

(d) This AD results from 13 reports of released thrust reverser hardware. We are issuing this AD to prevent release of the thrust reverser cascade on landing, which could result in runway debris and a possible hazard to other aircraft.

Compliance

(e) You are responsible for having the actions required by this AD performed within the compliance times specified unless the actions have already been done.

Modifying the Latching System of the Fan Reverser

(f) If MRAS SB No. CF6-80C2 S/B 78-1068, Revision 2, dated May 16, 2005, any earlier revision, or original issue, or SB No. CF6-80C2 S/B 78-1077, Revision 1, dated May 16, 2005, or original issue, has not been incorporated, do the following:

(1) At the next normally scheduled maintenance period or within 1,200 flight hours time-in-service (TIS) after the effective date of this AD, whichever occurs first, modify the latching system of the fan reverser.

(2) Use the Accomplishment Instructions of either MRAS SB No. CF6-80C2 S/B 78-1068, Revision 2, dated May 16, 2005, or SB No. CF6-80C2 S/B 78-1077, Revision 1, dated May 16, 2005, (but not both SBs) to modify the latch assembly.

Replacing the L-Shaped Support Brackets

(g) If MRAS SB No. CF6-80C2 S/B 78-1078, Revision 1, dated May 16, 2005, or original issue, has not been incorporated, do the following:

(1) At the next normally scheduled maintenance period or within 6,000 flight hours TIS after the effective date of this AD, whichever occurs first, replace the existing L-shaped support brackets of the upper and lower ends of the upper latch operating cable with improved T-shaped support brackets.

(2) Use the Accomplishment Instructions of MRAS SB CF6-80C2 S/B 78-1078, Revision 1, dated May 16, 2005, to replace the support brackets.

Installing the Improved Upper Latch of the Fan Reverser

(h) If MRAS SB No. CF6-80C2 S/B 78-1088, Revision 5, dated May 24, 2005, any earlier revision, or original issue, has not been incorporated, do the following:

(1) At the next normally scheduled maintenance period or within 6,000 flight hours TIS after the effective date of this AD, whichever occurs first, install the improved upper latch of the fan reverser.

(2) Use the Accomplishment Instructions of MRAS SB CF6-80C2 S/B 78-1088, Revision 5, dated May 24, 2005, to install the upper latch.

Alternative Methods of Compliance

(i) The Manager, Engine Certification Office, has the authority to approve alternative methods of compliance for this AD if requested using the procedures found in 14 CFR 39.19.

Related Information

(j) None.

Material Incorporated by Reference

(k) You must use the Middle River Aircraft Systems (MRAS) Service Bulletins specified in Table 1 of this AD to perform the actions required by this AD. The Director of the Federal Register approved the incorporation by reference of the documents listed in Table 1 of this AD in accordance with 5 U.S.C. 552(a) and 1 CFR part 51. Contact Middle River Aircraft Systems, Mail Point 46, 103 Chesapeake Park Plaza, Baltimore, MD 21220-4295, telephone: (410) 682-0094; fax: (410) 682-0100 for a copy of this service information. You may review copies at the Docket Management Facility; U.S. Department of Transportation, 400 Seventh Street, SW., Nassif Building, Room PL-401, Washington, DC 20590-0001, on the Internet at http://dms.dot.gov, or at the National Archives and Records Administration (NARA). For information on the availability of this material at NARA, call 202-741-6030, or go to: http://www.archives.gov/federal-register/cfr/ibr-locations.html.

Table 1.—Incorporation by Reference
MRAS Service Bulletin No. | Page | Revision | Date
CF6-80C2 S/B 78-1068 | ALL | 2 | May 16, 2005.
Total Pages: 16
CF6-80C2 S/B 78-1077 | ALL | 1 | May 16, 2005.
Total Pages: 19
CF6-80C2 S/B 78-1078 | ALL | 1 | May 16, 2005.
Total Pages: 29
CF6-80C2 S/B 78-1088 | ALL | 5 | May 24, 2005.
Total Pages: 51

Issued in Burlington, Massachusetts, on March 13, 2006.
Peter A. White,
Acting Manager, Engine and Propeller Directorate, Aircraft Certification Service.

[FR Doc. 06-2648 Filed 3-20-06; 8:45 am]

BILLING CODE 4910-13-P